DEPARTMENT OF AGRICULTURE

Forest Service

Information Collection; Recreation Fee Permit Envelope

AGENCY: Forest Service, USDA.

ACTION: Notice; request for comment.

SUMMARY: In accordance with the Paperwork Reduction Act of 1995, the Forest Service is seeking comments from all interested individuals and organizations on the extension of the information collection, Recreation Fee Permit Envelope (Form FS-2300-26).

DATES: Comments must be received in writing on or before June 3, 2003 to be assured of consideration. Comments received after that date will be considered to the extent practicable.

ADDRESSES: Comments concerning this notice should be addressed to Forest Service, USDA, Attn: Fee Program Manager, Recreation, Heritage, and Wilderness Resources Staff, Mail Stop 1125, 1400 Independence Avenue, SW., Washington, DC 20250-1125. Comments also may be submitted via facsimile to (202) 205-1145 or by e-mail to: tcleeland@fs.fed.us.

The public may inspect comments received at the Office of the Director, Recreation, Heritage, and Wilderness Resources Staff, Sidney R. Yates Building, 1400 Independence Avenue, Washington, DC, during normal business hours. Visitors are encouraged to call ahead to (202) 205-1169 to facilitate entry to the building.

FOR FURTHER INFORMATION CONTACT: Teri Cleeland, Fee Program Manager, Recreation, Heritage, and Wilderness Resources Staff, (202) 205-1169.

SUPPLEMENTARY INFORMATION:

Description of Information Collection

Title: Recreation Fee Permit Envelope.

OMB Number: 0596-0106.

Expiration Date of Approval: April 30, 2003.

Type of Request: Extension.

Abstract: This information collection will help the Forest Service ensure that visitors to National Forest System recreational sites comply with Forest Service policies and regulations and pay user fees when required. The data will also help the agency evaluate how well it meets the recreational needs of its visitors.

Each year, millions of people visit National Forest System recreational sites. The Land and Water Conservation Fund Act of 1965, section 4(b), the Forest Service regulations at Title 36, Code of Federal Regulations (CFR), section 291.2, and Section 315 of Public Law 104-134 (Omnibus Consolidated Rescissions and Appropriations Act of 1996), as amended, authorize National Forest and Grassland recreational sites to collect fees from visitors. The Forest Service uses the Recreation Fee Permit Envelope to collect these fees.

The agency will analyze the collected data to evaluate visitor use of recreational sites to determine the staffing needs for law enforcement, cleaning, maintenance, inspection, and other needs at these recreational sites. The Forest Service also will use the collected information to track demographic data (such as a visitor's length of stay at a specific recreational site, a visitor's recreational activities, or the recreational sites most frequented) and to ensure that visitors on National Forest System recreational sites comply with the agency's fee payment policies and regulations at 36 CFR 261.15.

Visitors pick up self-service fee envelopes at recreational sites that charge fees, such as campgrounds or other facilities. The visitors complete the blocks of information requested and place the money in the envelope, which they deposit in a secure collection box or fee tube, generally located at the entrance to the site. As part of the fee collection process, the Forest Service asks visitors to provide the following information: The amount of money enclosed, the number of days for which they paid, the date and time period for which they paid, their vehicle license plate number, the State in which they live, their camp unit number, the number of people in their party, and their planned date of departure. The envelope also asks for comments on how the Forest Service can improve the facilities or services at the site. The agency will use the collected data to evaluate accessibility for all visitors based on actual reported need rather than agency assumptions. For example, visitors could report that they were unable to get a wheelchair to a picnic table or restroom or that signs weren't available in braille.

To determine the estimate of burden, six Forest Service employees were requested to pick up fee envelopes at a Forest Service campground, read the directions, complete the form, place the fee in the envelope, deposit the envelope in a fee tube, and place the stubs on their dashboards. The estimate of burden is based on the average time it took the six employees to complete the fee payment process.

Data collected in this information collection are not available from other sources.

Estimate of Annual Burden: 3 minutes.

Type of Respondents: Individuals and groups using National Forests and Grasslands recreational sites at which fees are collected.

Estimated Annual Number of Respondents: 400,000. This estimate is based on the number of fee envelopes that are printed and placed in recreational sites annually.

Estimated Annual Number of Responses per Respondent: 1.

Estimated Total Annual Burden on Respondents: 20,000 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. In submitting this proposal to the Office of Management and Budget for approval, the Forest Service will summarize and respond to comments received.

Dated: March 28, 2003.
Gloria Manning,
Associate Deputy Chief, National Forest System.

[FR Doc. 03-8187 Filed 4-3-03; 8:45 am]

BILLING CODE 3410-11-P